DEPARTMENT OF HEALTH AND HUMAN SERVICES

Health Resources and Services Administration

Notice of Filing of Annual Report of Federal Advisory Committee

Notice is hereby given that pursuant to section 13 of Public Law 92-463, the annual report for the following Health Resources and Services Administration's Federal advisory committee has been filed with the Library of Congress:

Maternal and Child Health Research Grants Review Committee

Copies are available to the public for inspection at The Library of Congress, Newspaper and Current Periodical Reading Room, James Madison Memorial Building, Room 133, Independence Avenue, SE., between 1st and 2nd Streets, Washington, DC.

Copies may be obtained from: Christopher DeGraw, M.D., M.P.H., Executive Secretary, Maternal and Child Health Research Grants Review Committee, Parklawn Building, Room 18A-55, 5600 Fishers Lane, Rockville, Maryland 20857, Telephone (301) 443-2340.

Dated: February 20, 2002.
Jane M. Harrison,
Director, Division of Policy Review and Coordination.

[FR Doc. 02-4462 Filed 2-25-02; 8:45 am]

BILLING CODE 4165-15-P